DEPARTMENT OF TRANSPORTATION

Federal Aviation Administration

14 CFR Part 39

[Docket No. 2002-NM-19-AD]

RIN 2120-AA64

Airworthiness Directives; Boeing Model 727, 737-100, 737-200, and 737-200C Series Airplanes

AGENCY: Federal Aviation Administration, DOT.

ACTION: Notice of proposed rulemaking (NPRM).

SUMMARY: This document proposes the adoption of a new airworthiness directive (AD) that is applicable to certain Boeing Model 727, 737-100, 737-200, and 737-200C series airplanes. This proposal would require a one-time inspection to determine the part number of hydraulic accumulators installed in various areas of the airplane, and follow-on corrective actions, if necessary. This action is necessary to prevent high-velocity separation of a barrel, piston, or end cap from a hydraulic accumulator. Such separation could result in injury to personnel in the accumulator area; loss of cabin pressurization; loss of affected hydraulic systems; or damage to plumbing, electrical installations, or structural members. This action is intended to address the identified unsafe condition.

DATES: Comments must be received by July 5, 2002.

ADDRESSES: Submit comments in triplicate to the Federal Aviation Administration (FAA), Transport Airplane Directorate, ANM-114, Attention: Rules Docket No. 2002-NM-19-AD, 1601 Lind Avenue, SW., Renton, Washington 98055-4056. Comments may be inspected at this location between 9:00 a.m. and 3:00 p.m., Monday through Friday, except Federal holidays. Comments may be submitted via fax to (425) 227-1232. Comments may also be sent via the Internet using the following address:9-anm-nprmcomment@faa.gov. Comments sent via fax or the Internet must contain “Docket No. 2002-NM-19-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Technical Information: Barbara Mudrovich, Aerospace Engineer, Systems and Equipment Branch, ANM-130S, FAA, Seattle Aircraft Certification Office, 1601 Lind Avenue, SW., Renton, Washington 98055-4056; telephone (425) 227-2983; fax (425) 227-1181.

Other Information: Judy Golder, Airworthiness Directive Technical Editor/Writer; telephone (425) 227-1119, fax (425) 227-1232. Questions or comments may also be sent via the Internet using the following address: judy.golder@faa.gov. Questions or comments sent via the Internet as attached electronic files must be formatted in Microsoft Word 97 for Windows or ASCII text.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-19-AD.” The postcard will be date stamped and returned to the commenter.

Availability of NPRMs

Any person may obtain a copy of this NPRM by submitting a request to the FAA, Transport Airplane Directorate, ANM-114, Attention: Rules Docket No. 2002-NM-19-AD, 1601 Lind Avenue, SW., Renton, Washington 98055-4056.

Discussion

The FAA has received reports of several incidents on various Boeing Model 747 series airplanes, and one incident on a Boeing Model 737-200 series airplane, in which aluminum end caps on hydraulic accumulators have fractured. One incident resulted in an injury to a maintenance worker. Fracture of the aluminum end caps has been attributed to fatigue cracking caused by stress corrosion or tooling marks. Fracture of an end cap could lead to a rupture of a hydraulic accumulator, which could result in high-velocity separation of a barrel, piston, or end cap from a hydraulic accumulator. Such separation could result in injury to personnel in the accumulator area; loss of cabin pressurization; loss of affected hydraulic systems; or damage to plumbing, electrical installations, or structural members.

Certain Boeing Model 727 and Model 737-100, -200, and -200C series airplanes have hydraulic accumulators with aluminum end caps installed in various areas of the airplane. Therefore, all of these airplanes could be subject to the same unsafe condition described previously.

Other Relevant Rulemaking

The FAA previously has issued AD 2000-14-01, amendment 39-11810 (65 FR 44670, July 19, 2000). That AD applies to certain Boeing Model 747 series airplanes and requires replacement of any brake system accumulator that has aluminum end caps with an accumulator that has stainless steel end caps. That AD is intended to prevent high-velocity separation of a brake system accumulator barrel, piston, or end cap, which could result in injury to personnel in the wheel well area, loss of cabin pressurization, loss of certain hydraulic systems, or damage to the fuel line of the auxiliary power unit.

Explanation of Relevant Service Information

The FAA has reviewed and approved the following Boeing Special Attention Service Bulletins:

• 727-29-0064, Revision 1, dated May 3, 2001, which concerns hydraulic accumulators in hydraulic systems “A” and “B” of certain Model 727 series airplanes.

• 727-32-0410, Revision 2, dated January 24, 2002, which concerns a hydraulic accumulator in the landing gear brake system of certain Model 727 series airplanes.

• 727-52-0148, Revision 2, dated January 24, 2002, which concerns a hydraulic accumulator in the aft airstairs of certain Model 727-200 series airplanes.

• 737-32-1334, Revision 1, dated March 1, 2001, which concerns a hydraulic accumulator in the landing gear brake system of certain Model 737-100, -200, and -200C series airplanes.

These service bulletins describe procedures for a one-time inspection to determine the part number of installed hydraulic accumulators, and follow-on corrective actions. Corrective actions in Service Bulletins 727-29-0064, Revision 1, and 737-32-1334, Revision 1, include replacement of hydraulic accumulators that have aluminum end caps with new or modified accumulators that have stainless steel end caps. For airplanes equipped with hydraulic accumulators with certain part numbers, corrective actions in Service Bulletins 727-32-0410, Revision 2, and 727-52-0148, Revision 2, include replacement of existing mounting clamps and hardware for the hydraulic accumulators with stronger clamps and hardware. For airplanes equipped with hydraulic accumulators with certain other part numbers, corrective actions in Service Bulletins 727-32-0410, Revision 2, and 727-52-0148, Revision 2, include replacement of hydraulic accumulators that have aluminum end caps with new or modified accumulators that have stainless steel end caps, in addition to replacement of existing mounting clamps and hardware.

Accomplishment of the actions specified in the applicable service bulletins is intended to adequately address the identified unsafe condition.

Boeing Service Bulletin 727-29-0064, Revision 1, refers to Parker Service Bulletin 1356-603303-29-60, dated January 9, 2001, as the appropriate source of service information for modification of the hydraulic accumulators that are subject to replacement per Boeing Service Bulletin 727-29-0064. Similarly, Revision 2 of Boeing Service Bulletins 727-32-0410 and 727-52-0148 refer to Parker Service Bulletins 1356-603399-29-61 and 2660472-29-63, both dated December 12, 2000, as the appropriate sources of service information for modification of the hydraulic accumulators that are subject to replacement per those Boeing service bulletins. Also, Revision 1 of Boeing Service Bulletin 737-32-1334 refers to Parker Service Bulletin 2660472-29-63, dated December 12, 2000, as the appropriate source of service information for modification of the hydraulic accumulators that are subject to replacement per that Boeing service bulletin.

Explanation of Requirements of Proposed Rule

Since an unsafe condition has been identified that is likely to exist or develop on other products of this same type design, the proposed AD would require accomplishment of the actions specified in the Boeing service bulletins described previously.

Cost Impact: Required Actions

There are approximately 1,832 Model 727 series airplanes and 1,033 Model 737 series airplanes of the affected design in the worldwide fleet. The FAA estimates that 1,294 Model 727 series airplanes and 376 Model 737 series airplanes of U.S. registry would be affected by this proposed AD.

We estimate that it would take approximately 1 work hour per airplane to accomplish the proposed one-time inspection, at an average labor rate of $60 per work hour. Based on these figures, the cost impact of the proposed one-time inspection on U.S. operators is estimated to be $100,200, or $60 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Cost Impact: On-Condition Actions

For an airplane subject to the replacement per Boeing Service Bulletin 727-29-0064, we estimate that it would take approximately 5 work hours per accumulator (two hydraulic system accumulators per airplane), at an average labor rate of $60 per work hour. Required parts would cost between $1,400 (new part) and $2,810 (vendor-modified part) per accumulator. Based on these figures, the cost impact of this replacement, if necessary, would be between $1,700 and $3,110 per accumulator.

For an airplane subject to the replacement of both the mounting clamps and hardware and the hydraulic accumulator per Boeing Service Bulletin 727-32-0410, we estimate that it would take approximately 6 work hours per airplane to accomplish (one landing gear brake accumulator per airplane), at an average labor rate of $60 per work hour. Required parts would cost between $2,500 (new part) and $3,975 (vendor-modified part) per airplane. Based on these figures, the cost impact of this replacement, if necessary, would be between $2,860 and $4,335 per airplane.

For an airplane subject to the replacement of both the mounting clamps and hardware and the hydraulic accumulator per Boeing Service Bulletin 727-52-0148, we estimate that it would take approximately 6 work hours per airplane (one aft airstairs hydraulic accumulator per airplane) to accomplish, at an average labor rate of $60 per work hour. Required parts would cost between $2,500 (new part) and $3,975 (vendor-modified part) per airplane. Based on these figures, the cost impact of this replacement, if necessary, would be between $2,860 and $4,335 per airplane.

For an airplane subject to the replacement per Boeing Service Bulletin 737-32-1334, we estimate that it would take approximately 5 work hours per accumulator (two landing gear hydraulic brake accumulators per airplane) to accomplish, at an average labor rate of $60 per work hour. Required parts would cost between $2,175 (operator-modified part) and $2,410 (vendor-modified part) per accumulator. Based on these figures, the cost impact of this replacement, if necessary, would be between $2,475 and $2,710 per accumulator.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2002-NM-19-AD.

Applicability: Model 727 series airplanes, line numbers (L/N) 1 through 1832 inclusive; and Model 737-100, -200, and -200C series airplanes, L/N 1 through 1033 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent high-velocity separation of a barrel, piston, or end cap from a hydraulic accumulator; which could result in injury to personnel in the accumulator area; loss of cabin pressurization; loss of affected hydraulic systems; or damage to plumbing, electrical installations, or structural members; accomplish the following:

Inspection/Corrective Action: Service Bulletin 727-29-0064

(a) For airplanes listed in Boeing Special Attention Service Bulletin 727-29-0064, Revision 1, dated May 3, 2001: Within 18 months or 6,000 flight hours after the effective date of this AD, whichever is first, do a one-time inspection to determine the part numbers (P/Ns) of hydraulic accumulators in hydraulic systems “A” and “B,” per the service bulletin.

(1) If no hydraulic accumulator with Parker P/N 1356-603303 is installed: No further action is required by this paragraph.

(2) If any hydraulic accumulator with Parker P/N 1356-603303 is installed: Within 18 months or 6,000 flight hours after the effective date of this AD, whichever is first, replace the subject hydraulic accumulator with a new or modified accumulator, per the service bulletin.

Note 2: Inspections and replacements done prior to the effective date of this AD per Boeing Special Attention Service Bulletin 727-29-0064, dated June 8, 2000, are considered acceptable for compliance with the corresponding actions in this AD.

Note 3: Boeing Special Attention Service Bulletin 727-29-0064, Revision 1, refers to Parker Service Bulletin 1356-603303-29-60, dated January 9, 2001, as the appropriate source of service information for modification of the hydraulic accumulators that are subject to replacement per Service Bulletin 727-29-0064.

Inspection/Corrective Action: Service Bulletin 727-32-0410

(b) For airplanes listed in Boeing Special Attention Service Bulletin 727-32-0410, Revision 2, dated January 24, 2002: Within 18 months or 6,000 flight hours after the effective date of this AD, whichever is first, do a one-time inspection to determine the P/N of the hydraulic accumulator in the landing gear brake system, per the service bulletin.

(1) If no hydraulic accumulator with P/N 1356-603399, 3780078-104, BACA11E4S, BACA11E4SA, 60857-4-1, or BACA11E4 (vendor P/N 2660472-4 or 2660472M4) is installed: No further action is required by this paragraph.

(2) If any hydraulic accumulator with P/N 1356-603399, 3780078-104, BACA11E4S, BACA11E4SA, 60857-4-1, or BACA11E4 (vendor P/N 2660472-4 or 2660472M4) is installed: Within 18 months or 6,000 flight hours after the effective date of this AD, whichever is first, replace existing accumulator clamps and mounting hardware with new, stronger accumulator clamps and mounting hardware; and replace the subject hydraulic accumulator with a new or modified accumulator; as applicable; per the service bulletin.

Note 4: Boeing Special Attention Service Bulletin 727-32-0410, Revision 2, refers to Parker Service Bulletins 1356-603399-29-61 and 2660472-29-63, both dated December 12, 2000, as the appropriate sources of service information for modification of the hydraulic accumulators that are subject to replacement per Service Bulletin 727-32-0410.

Inspection/Corrective Action: Service Bulletin 727-52-0148

(c) For airplanes listed in Boeing Special Attention Service Bulletin 727-52-0148, Revision 2, dated January 24, 2002: Within 18 months or 6,000 flight hours after the effective date of this AD, whichever is first, do a one-time inspection to determine the P/N of the hydraulic accumulator in the aft airstairs, per the service bulletin.

(1) If no hydraulic accumulator with P/N 1356-603399, 3780078-104, BACA11E4S, BACA11E4SA, 60857-4-1, or BACA11E4 (vendor P/N 2660472-4 or 2660472M4) is installed: No further action is required by this paragraph.

(2) If any hydraulic accumulator with P/N 1356-603399, 3780078-104, BACA11E4S, BACA11E4SA, 60857-4-1, or BACA11E4 (vendor P/N 2660472-4 or 2660472M4) is installed: Within 18 months or 6,000 flight hours after the effective date of this AD, whichever is first, replace existing accumulator clamps and mounting hardware with new, stronger accumulator clamps and mounting hardware; and replace the subject hydraulic accumulator with a new or modified accumulator; as applicable; per the service bulletin.

Note 5: Boeing Special Attention Service Bulletin 727-52-0148, Revision 2, refers to Parker Service Bulletins 1356-603399-29-61 and 2660472-29-63, both dated December 12, 2000, as the appropriate sources of service information for modification of the hydraulic accumulators that are subject to replacement per Service Bulletin 727-52-0148.

Inspection/Corrective Action: Service Bulletin 737-32-1334

(d) For airplanes listed in Boeing Special Attention Service Bulletin 737-32-1334, Revision 1, dated March 1, 2001: Within 18 months or 6,000 flight hours after the effective date of this AD, whichever is first, do a one-time inspection to determine the P/Ns of the hydraulic accumulators in the landing gear brake system, per the service bulletin.

(1) If no hydraulic accumulator with P/N BACA11E2 (vendor P/N 2660472-2 or 2660472M2) is installed: No further action is required by this paragraph.

(2) If any hydraulic accumulator with P/N BACA11E2 (vendor P/N 2660472-2 or 2660472M2) is installed: Within 18 months or 6,000 flight hours after the effective date of this AD, whichever is first, replace the subject hydraulic accumulator with a new or modified accumulator, per the service bulletin.

Note 6: Inspections and replacements done prior to the effective date of this AD per Boeing Special Attention Service Bulletin 737-32-1334, dated May 11, 2000, are considered acceptable for compliance with the corresponding actions in this AD.

Note 7: Boeing Special Attention Service Bulletin 737-32-1334, Revision 1, refers to Parker Service Bulletin 2660472-29-63, dated December 12, 2000, as the appropriate source of service information for modification of the hydraulic accumulators that are subject to replacement per Service Bulletin 737-32-1334, Revision 1.

Spares

(e) As of the effective date of this AD, no one may install a hydraulic accumulator with a P/N listed in paragraph (a)(2), (b)(2), (c)(2), or (d)(2) of this AD on any airplane.

Alternative Methods of Compliance

(f) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 8: Information concerning the existence of approved alternative methods of compliance with this AD, if any, may be obtained from the Seattle ACO.

Special Flight Permits

(g) Special flight permits may be issued in accordance with sections 21.197 and 21.199 of the Federal Aviation Regulations (14 CFR 21.197 and 21.199) to operate the airplane to a location where the requirements of this AD can be accomplished.

Issued in Renton, Washington, on May 13, 2002.
Ali Bahrami,
Acting Manager, Transport Airplane Directorate, Aircraft Certification Service.

[FR Doc. 02-12517 Filed 5-17-02; 8:45 am]

BILLING CODE 4910-13-P